DEPARTMENT OF VETERANS AFFAIRS

[OMB Control No. 2900-0663]

Agency Information Collection Activity Under OMB Review: PayVA (Pay Now Enter Info Page)

AGENCY: Debt Management Center, Department of Veterans Affairs.

ACTION: Notice.

SUMMARY: In compliance with the Paperwork Reduction Act (PRA) of 1995, this notice announces that the Debt Management Center, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0663.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0663” in any correspondence.

SUPPLEMENTARY INFORMATION:

Authority: Public Law 104-13; Public Law 107-347; 31 U.S.C. 3711; 38 U.S.C. 501; 38 U.S.C. 5314.

Title: PayVA (Pay Now Enter Info Page).

OMB Control Number: 2900-0663.

Type of Review: Extension of a currently approved collection.

Abstract: PayVA (Pay Now Enter Info Page—pay.va.gov) is used by the VA Debt Management Center (DMC) to verify debts that are active at DMC before the indebted person makes a payment. PayVA collects basic debt information from the respondent and redirects them to pay.gov (a Department of Treasury website) for online payments. PayVA then collects responses from pay.gov to verify payment.

An agency may not conduct or sponsor, and a person is not required to respond to a collection of information unless it displays a currently valid OMB control number. The Federal Register Notice with a 60-day comment period soliciting comments on this collection of information was published at 88 FR 129 on July 7, 2023, pages 43421 and 43422.

Affected Public: Individuals and Households.

Estimated Annual Burden: 31,261 hours.

Estimated Average Burden per Respondent: 10 minutes.

Frequency of Response: Daily.

Estimated Number of Respondents: 187,567.

By direction of the Secretary.
Maribel Aponte,
VA PRA Clearance Officer, Office of Enterprise and Integration, Data Governance Analytics, Department of Veterans Affairs.

[FR Doc. 2023-19491 Filed 9-8-23; 8:45 am]

BILLING CODE 8320-01-P